DEPARTMENT OF STATE

[Public Notice 6442]

Bureau of Educational and Cultural Affairs (ECA) Request for Grant Proposals: Open Competition for Professional Exchange Programs in Africa, East Asia, Europe, the Near East, North Africa, South Central Asia and the Western Hemisphere and the Nqwang Choephel Fellowship Program for Tibet

Announcement Type: New Grant.

Funding Opportunity Number: ECA/PE/C-09-01.

Catalog of Federal Domestic Assistance Number: 19.415.

Key Dates:

Application Deadline: February 20, 2009.

Executive Summary: The Office of Citizen Exchanges, ECA/PE/C, of the Bureau of Educational and Cultural Affairs announces an open competition for grants that support exchanges and build relationships between U.S. non-profit organizations and civil society and cultural groups in Africa, East Asia, Europe, the Near East, North Africa, South Central Asia and the Western Hemisphere. Pending availability of funds, it is anticipated that approximately $5,600,000 or more will be available to support this competition. ECA/PE/C expects to fund approximately 10-15 projects under this competition in FY 2009. U.S. public and non-profit organizations meeting the provisions described in Internal Revenue code section 26 U.S.C. 501(c)(3) may submit proposals that support the goals of The Professional Exchange Program. Projects should promote mutual understanding and partnerships between key professional and cultural groups in the United States and counterpart groups in other countries through multi-phased exchanges taking place over one to two years. Proposals should encourage citizen engagement in current issues and promote the development of democratic societies and institutions, with a view toward creating a more stable world. All programs should be two-way exchanges and involve participants from the U.S. and foreign countries.

Proposed projects should transform institutional and individual understanding of key issues, foster dialogue, share expertise, and develop capacity. Through these people-to-people exchanges, the Bureau seeks to break down stereotypes that divide peoples, to promote good governance and economic growth, to contribute to conflict prevention and management, and to build respect for cultural expression and identity in the world. Projects should be structured to allow American professionals and their international counterparts in eligible countries to develop a common dialogue for dealing with shared challenges and concerns. Projects should include current or potential leaders who will effect positive change in their communities.

Applicants may not submit more than one proposal per theme in this competition. Also, applicants may not include countries not eligible under a specific theme designated in the RFGP. Proposals that do so will be declared technically ineligible and will receive no further consideration in the review process. For the purposes of this competition, eligible regions are Africa, East Asia, Europe, the Near East, North Africa, South Central Asia, and the Western Hemisphere. No guarantee is made or implied that grants will be awarded in all themes and for all countries listed.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The competition is based on the premise that people-to-people exchanges encourage and strengthen understanding of democratic values, nurture the social, political, cultural, and economic development of societies and encourage a more active citizenry. Exchanges supported by institutional grants from the Bureau should operate at two levels: They should enhance partnerships between U.S. and foreign institutions, and they should establish a common language to develop practical solutions for shared problems and concerns. The Bureau is particularly interested in projects that will create mutually beneficial and self-sustaining linkages between professional communities in the U.S. and their counterpart communities in other countries. Applicants must identify the U.S. and foreign organizations and individuals with whom they are proposing to collaborate and describe previous cooperative activities, if any. Information about the mission, activities, and accomplishments of partner organizations should be included in the submission. Proposals should contain letters of commitment or support from partner organizations for the proposed project. Applicants should clearly outline and describe the role and responsibilities of all partner organizations in terms of project logistics, management and oversight.

Competitive proposals will include the following:

• A brief description of the theme to be addressed and how it relates to the target country or region. (Proposals that request resources for an initial needs assessment will be deemed less competitive under the review criterion Program Planning and Ability to Achieve Objectives, per item V.1 below.);

• A clear, succinct statement of program objectives and expected outcomes that responds to Bureau goals as listed in this RFGP. Desired outcomes should be described in qualitative and quantitative terms. (See the Program Monitoring and Evaluation section per item V.1 below, for more information on project objectives and outcomes.);

• A proposed timeline;

• A description of participant recruitment and selection processes;

• Letters of support from foreign and U.S. partners. (Letters from prospective partner institutions should demonstrate a capacity to arrange and conduct U.S. and overseas activities.);

• An outline of the applicant organization's relevant expertise in the project theme and country(ies);

• An outline of relevant experience managing previous exchange programs;

• Resumes of experienced staff who have demonstrated a commitment to implement and monitor projects and ensure outcomes;

• A comprehensive plan to evaluate whether program outcomes will achieve the specific objectives described in the narrative. (See the Program Monitoring and Evaluation section [IV.3d.d below] for further guidance on evaluation.);

• A post-grant plan that demonstrates how the grantee plans to maintain contacts initiated through the program. Applicants should discuss ways that U.S. and foreign participants or host institutions will collaborate and communicate after the ECA-funded grant has concluded. (See Review Criterion #5, per item V.1 below for more information on post-grant activities.)

• Successful projects will demonstrate the importance Americans place on community service as an element of active citizenship and may include ideas and projects to strengthen civil society through community service either during participants' stay in the U.S. or upon their return to their countries.

• In addition to addressing the specific themes described below, proposals should develop partner organizations' capacity in such areas as strategic planning, performance management, fund raising, financial management, human resources management, and decision-making.

U.S. Embassy Involvement: Before submitting a proposal, all applicants are strongly encouraged to consult with the Washington, DC-based State Department contact for the themes/regions listed in this solicitation. Applicants are also strongly encouraged to consult with Public Affairs Officers at U.S. Embassies in relevant countries as they develop proposals responding to this RFGP. Also, it is important that the proposal narrative clearly state the applicant's commitment to consult closely with the Public Affairs Section of the U.S. Embassy in the relevant country(ies) to develop plans for project implementation and to select project participants. Proposals should also acknowledge U.S. Embassy involvement in the final selection of all participants. Applicants should state their willingness to invite representatives of the Embassy(ies) and/or consulate(s) to participate in program sessions or site visits.

ECA/DOS Acknowledgement: Narratives should state that all material developed for the project will prominently acknowledge Department of State ECA Bureau funding for the program. They should also state that in any contact with the media (print, television, blogging, etc.) applicants will acknowledge Department of State ECA Bureau funding for the program.

Alumni Outreach and Engagement: Proposals must include a plan outlining alumni outreach and engagement. Proposed programs should strengthen long-term mutual understanding, including maximum sharing of information and establishment of long-term institutional and individual linkages. Reviewers will assess ways in which proposals provide substantive plans to prepare exchange program participants for their role as active, effective alumni and how the grantee organization will continue to engage with alumni once they return home. Recipient organization(s) must outline how alumni activities will be sustained after the grant period.

All recipients of ECA grants or cooperative agreements (hereafter referred to as “recipients organization(s)”) will be expected to provide regular updates on alumni activities throughout the period of performance. Proposals should also include plans to use alumni in recruitment and orientation programming of future participants. Recipient organization(s) should connect alumni with local private sector partners such as NGOs and businesses to ensure sustainability of alumni activities.

The Bureau expects that all recipient organization(s) will encourage and assist participants in registering and using the State Alumni Web site (alumni.state.gov) at multiple points during their exchange experience, at a minimum during program orientations and pre-departure briefings. Proposals should detail how the State Alumni Web site will be promoted to exchange participants and how the recipient organization(s) will facilitate participant registration. The Bureau expects that all recipient organization(s) will place a link to State Alumni on their own Web sites.

State Alumni is an interactive global community where alumni from all over the world can stay connected with their exchange experience by sharing ideas, projects, and experiences.

On State Alumni, exchange participants can:

• Find the latest research in their field, plus career enhancing information;

• Participate in live Q&A discussions with experts on a variety of current issues;

• Find grant and job opportunities;

• Post résumés and academic articles;

• Access 20,000 free journals, newspapers, and more;

• Find a local alumni association to join;

• Share their experience with a global audience;

• Read alumni success stories, perspectives, and ideas. All statistical information collected on ECA funded program participant(s) should be transferable to databases maintained by ECA.

While applicant organizations may propose the use of Web sites for recruitment and selection, pre-departure and re-entry efforts/activities, the Bureau will not fund or support Web sites and/or Web site activities that are duplicative or run parallel to alumni opportunities on ECA's State Alumni Web site.

Recipient organizations will be granted access to the password-protected State Alumni Web site to interact with program participants and alumni. ECA funds can be used to support the recipient organization's interaction with alumni via the State Alumni Web site.

After awards have been finalized, all recipient organization(s) will be expected to work directly with the respective ECA program office, ECA's Office of Alumni Affairs and the Embassy-based alumni coordinator to provide regular updates on alumni activities, alumni follow-up and alumni participant data. Proposals should specifically acknowledge a commitment to this effort.

ECA will provide general information on alumni outreach ideas as well as illustrative examples of State Alumni Web site pages on exchanges.state.gov that interested organizations can use in designing their alumni outreach strategies.

FY 2009 Thematic Topics

1. The Legislative Fellows Program (LFP)

ECA priorities continue to focus on engagement with young professionals in positions to influence and develop their societies, including young professionals involved in the local and national legislatures of developing democracies. ECA is seeking competitive proposals for the LFP program in all regions of the world involving specific countries listed below. The LFP program is designed to strengthen understanding of the U.S. legislative process and enhance appreciation of the role of civic society and its engagement in the political process. LFP will provide young professionals from identified countries with hands-on exposure to the U.S. political process through internships in U.S. Congressional offices (including state/district offices), state legislatures, city councils or local governments across the U.S. The program will also involve U.S. participants who will be selected from staff members at the various internship sites who will act as primary host/mentors to the foreign fellows during their U.S.-based program. After the internships are completed, these U.S. staff members will travel overseas to the interns' home countries to continue their engagement by participating in joint outreach activities, engaging the local media, and on-site consultancies and presentations to wider audiences.

The foreign participants should be selected through a merit-based, competitive process. They should be college graduates involved in political affairs or other relevant fields, approximately 25 to 35 years in age, with some professional experience in the political or legislative arenas. Because of the nature of this program, all selected participants must have good English language skills (except for the program in the Western Hemisphere as noted below). Participants should have demonstrated leadership abilities and a commitment to or participation in the political process or policy-making through involvement in civic education activities, citizen advocacy groups, political campaigns, political parties, or election monitoring. U.S. participants will be staff members of the U.S. Congress, state legislatures, city councils or local governments who act as host for foreign participants during the inbound portion of the program.

Proposals must include qualified and established partner organizations/offices in each of the foreign countries where participants are being recruited. Also, proposals must demonstrate capacity in the U.S. to secure relevant placements for foreign participants. Proposals that include such information, especially with letters of commitment from possible U.S-based host organizations, will be deemed more competitive.

Applicants should strive to maximize the number of participants and the length of U.S.-based program given funding levels. Therefore, applicants that use homestays for foreign participants, establish public-private partnerships that provide programming support, and employ other creative techniques will be deemed more competitive than those that do not.

Successful applicants must fully demonstrate a capacity to achieve the following key activities:

(1) Recruit and select qualified individuals throughout the target country(ies). The foreign participants should be selected through a merit-based, competitive process. An in-country partner organization(s)/office is required to coordinate programming and fellowships.

(2) In addition to identifying in-country partner and screening, selecting, and preparing participants prior to departure for the United States, the recipient of this grant will also conduct a thorough orientation program for foreign participants upon their arrival in the United States. After the orientation session, grantees will be responsible for implementing fellowships in the United States for participants. This will include individualized fellowships for the LFP fellows in legislative offices/bodies at the national, state, and local levels. Selection of foreign LFP Fellows should take into account the types of positions that are available for placement/job shadowing in the U.S. ECA is open to creative and cost-efficient approaches to this selection and placement program. Specifically, U.S-based homestays for foreign participants are strongly recommended.

(3) Conducting an in-country program where U.S. mentors will travel overseas to conduct on-site consultancies and joint programming with foreign participants and their colleagues. The in-country program should be designed to engage a broad audience, not only traveling participants.

(4) The development of enhancement activities that reinforce program goals after the participants' return to their home country. An essential follow-on component will be a longitudinal assessment of the achievements of the program.

ECA envisions that the LFP program calendar will approximately be as follows:

September 2009-January 2010: Recruitment and selection of foreign participants and securing U.S.-based hosts and host sites.

February-April 2010: Travel to the United States by ½ of all the foreign participants to U.S. for orientation and placement at internship sites for a four to eight week program.

April 2010: Travel by the foreign participants to Washington, DC at/towards the end of their U.S.-based program for a two-day enrichment program. ECA will coordinate the dates and arrangements with each eventual grantee. Proposal budgets should include airfare, lodging, and per diem for each foreign participant for two working days in Washington, DC.

May-September 2010: The U.S. participants who were involved in the winter 2010 hosting will travel overseas for approximately two week program.

October-November 2010: Travel to the United States by the remaining ½ of all the foreign participants to the U.S. for orientation and placement at internship sites for a four to eight week program.

November-December 2010: Travel by the remaining foreign participants to Washington, DC at/towards the end of their U.S.-based program for a two-day program. ECA will coordinate the dates and arrangements with each eventual grantee. Proposal budgets should include airfare, lodging, and per diem for each foreign participant for two working days in Washington, DC.

January-May 2011: The U.S. participants who were involved in the fall 2010 hosting will travel overseas for approximately two week program.

Program Regions/Countries:

ECA could award up to six separate grants by region to administer the LFP program. However, ECA will consider proposals that cover multiple regions (or all the regions) as long as the applicant demonstrates particular program capacity in those regions.

Grantees should construct their proposals to fit the general outline and schedule of the LFP program as described above, but also to tailor it to the following regional priorities, participant numbers, and specifications as noted. Applicant organizations are highly encouraged to contact the relevant ECA program officer responsible for the relevant region(s) BEFORE submitting a proposal.

Africa (AF):

Program Contact: Curtis Huff, tel: (202) 453-8159, e-mail: HuffCE@State.gov.

Approximate Grant Award: $300,000 to $375,000 for a program involving approximately 35 to 40 participants.

For Africa, proposals for the LFP program should recruit foreign participants from one or more of the following countries: Nigeria, South Africa, Kenya, Democratic Republic of the Congo, Liberia, and Sudan. Placements may be considered at the Federal, State or local level and should be consistent with the participant's professional experience. Both single-country and multiple-country proposals will be considered, although applicants are cautioned not to spread their project so thinly across multiple countries or communities that it cannot be sustained. Internships should emphasize the hands-on work of legislators and their staff, including research on legislative issues, bill drafting, outreach to constituencies, fiscal analysis of legislation, policy debate, and understanding the ethical and legal parameters for such work.

East Asia and the Pacific (EAP):

Program Contact: Adam Meier, tel: (202) 453-8151, e-mail: MeierAW2@state.gov.

Approximate Grant Award: $300,000 to $375,000 for a program involving approximately 35 to 40 participants.

For East Asia and the Pacific, proposals for the LFP program should recruit foreign participants from Indonesia, Malaysia, Mongolia, Philippines, Singapore, and Taiwan. While a proposal does not require participation from all of these countries, ECA would like to see participation from as many of these countries as possible. Placements may be considered at the Federal, State or local level and should be consistent with the participant's professional experience.

Europe (EUR):

Program Contact: Brent Beemer, tel: (202) 453-8147, e-mail: BeemerBT@state.gov.

Approximate Grant Award: $600,000 to $675,000 for a program involving approximately 70 to 75 total participants.

In Europe, proposals for the LFP program should recruit foreign participants from only Russia, Ukraine, and Georgia. 50% of the foreign participants in the EUR program should be recruited from Russia. 25% of the participants should be recruited from Ukraine and 25% of the participants should be recruited from Georgia. Placements may be considered at the Federal, State or local level and should be consistent with the participant's professional experience.

Near East and North Africa (NEA):

Program Contact: Thomas Johnston, Tel: (202) 453-8162; e-mail: JohnstonTJ@state.gov

Approximate Grant Award: $300,000 to $375,000 for a program involving approximately 35 to 40 participants.

For the Near East and North Africa, proposals for the LFP program should recruit foreign participants from Bahrain, Egypt, Jordan, Kuwait, Lebanon, Morocco, and Oman. While a proposal does not require participation from all of these countries, ECA would like to see participation from as many of these countries as possible. It is recommended that, given the nature of this exchange, applicants focus primarily on placing Middle Eastern and North African participants in Federal/Congressional offices in the United States, though proposals that recommend state-level placement, with solid justification, will receive full consideration. Placements should be consistent with the participant's professional experience.

South and Central Asia (SCA):

Program Contact: Adam Meier, tel: (202) 453-8151, e-mail: MeierAW2@state.gov.

Approximate Grant Award: $300,000 to $375,000 for a program involving approximately 35 to 40 participants.

For South and Central Asia, proposals for the LFP program should recruit foreign participants from Bhutan, India, Kazakhstan, Kyrgyzstan, Nepal and Pakistan. At least 50% of the foreign participants should come from Kyrgyzstan and Nepal with the remaining 50% coming from the other countries listed. Placements may be considered at the Federal, State or local level and should be consistent with the participant's professional experience.

Western Hemisphere (WHA):

Program Contact: Laverne Johnson, tel: (202) 453-8160, e-mail: JohnsonLV@state.gov.

Approximate Grant Award: $300,000 to $375,000 for a program involving approximately 35 to 40 total participants.

In the Western Hemisphere, proposals for the LFP program should recruit only from Colombia, Brazil, Nicaragua, and Bolivia. 75% of the foreign participants in the WHA program should be from Colombia, Nicaragua and Bolivia. For these three countries, ECA prefers that the participants be Spanish speakers placed in Spanish language internships in the United States. The remaining 25% of the foreign participants should be from Brazil. For Brazil, ECA prefers that the participants be Portuguese speakers placed in Portuguese language internships in the United States. Placements may be considered at the Federal, State or local level and should be consistent with the participant's professional experience as well as language ability.

2. Young Entrepreneurs Program (YEP)

Support and development of business entrepreneurs in emerging free market societies remains a top priority for the State Department worldwide. In response, ECA is seeking proposals to implement the Young Entrepreneurs Program (YEP) program. YEP seeks to promote entrepreneurial thinking, job creation, business planning, and management skills that will assist young emerging entrepreneurs worldwide (approximately 25-35 years old) in launching business careers. The YEP program will increase understanding of the links between entrepreneurial activity and free markets as well as the importance of transparency and accountability in business and government. The YEP program will introduce young men and women to entrepreneurial thinking, business management skills, attracting investment, and also in designing programs to teach others these skills. The program will enhance appreciation for American business practices and the role of the individual in creating growth through grassroots-focused entrepreneurial efforts.

The YEP Program will provide its participants with exposure to day-to-day functioning of a free market system. Programs for English-speaking fellows would be designed as individual fellowships. They may include seminars, internships, workshops and site visits. Programs for fellows who do not speak English would be less individualized and more groups focused, and use a variety of training methodologies. These programs would be implemented with the assistance of U.S.-based interpreters. American participants would come from the same firms and organizations that the foreign participants worked with while in the United States. They would travel as a group overseas and do on-site workshops with foreign audiences. This program would work to establish long-term professional links between U.S. mentors and overseas fellows.

Proposals must include qualified and established partner organizations/offices in each of the foreign countries where participants are being recruited.

Applicants should strive to maximize the number of participants and the length of U.S.-based program given funding levels. Therefore, applicants that use homestays for foreign participants, establish public-private partnerships that provide programming support, and employ other creative techniques will be deemed more competitive than those that do not.

Successful applicants must fully demonstrate a capacity to achieve the following key activities:

(1) Recruit and select qualified individuals throughout the target country(ies), through a merit-based open competition. Program should be designed for foreign fellows to travel to the U.S. as a group, even if they will be doing individualized programs. An in-country partner organization or offices to help coordinate recruitment and overseas programming is required.

(2) In addition to identifying an in-country partner and screening, selecting, and preparing participants prior to departure for the United States, the grant recipient will be responsible for building and executing an orientation program upon arrival in the U.S. and a business-based program in the United States. This may include individualized internships for the appropriate foreign participants at U.S. businesses that are analogous in size and scope to their own domestic workplaces. This may also include group-based programming that relies on job-shadowing and group sessions on business topics that are facilitated through U.S.-based interpreters. Selection of foreign participants should take into account the types of businesses that are available for placement/job shadowing in the U.S. ECA is open to creative and cost-efficient approaches to this selection and placement program. This could include U.S.-based homestays for foreign participants.

(3) Conducting an in-country program where U.S. mentors will travel to the target country(ies) to conduct on-site consultancies for foreign participants and their firms. Workshops should be designed based on foreign participant's requests and could cover issues such as basic business principles, marketing, customer-service strategies, business ethics, etc. The workshop(s) should be designed to engage a broad audience, not only traveling program participants.

(4) The development of enhancement activities and development opportunities that reinforce program goals after the participants' return to their home country. An essential follow-on component will be a longitudinal assessment of the achievements of the program.

ECA envisions that the YEP program calendar will approximately be as follows:

September 2009-January 2010: Recruitment and selection of foreign participants and development of U.S.-based programs.

February-April 2010: Travel to the United States by ½ of all the foreign participants for a three to eight week program.

May-September 2010: Travel overseas by U.S. participants for an approximately two week program.

October-December 2010: Travel to the United States by all the remaining foreign participants for a three to eight week program.

January-May 2011: Travel overseas by remaining U.S. participants for an approximately two week program.

Program Regions/Countries:

ECA could award up to three separate grants by region to administer the YEP program. However, ECA will consider proposals that cover multiple regions (or all the regions) as long as the applicant demonstrates strong program capacity in all the regions included in a single proposal. Applicant organizations are highly encouraged to contact the relevant ECA program officer responsible for the relevant region(s) BEFORE submitting a proposal.

Africa (AF):

Program Contact: Curtis Huff, tel: (202) 453-8159, e-mail: HuffCE@State.gov.

Approximate Grant Award: $300,000 to $375,000 for a program involving approximately 35 to 40 total participants.

In Africa, proposals for the YEP program should recruit only from Nigeria, South Africa, Kenya, Democratic Republic of the Congo, Liberia, and Sudan. Both single-country and multiple-country proposals will be considered, although applicants are cautioned not to spread their project so thinly across multiple countries or communities that it cannot be sustained. For YEP Africa, English fluency is strongly recommended. Programs should emphasize developing skills to create jobs and to start and build new businesses, not expecting the government to do it.

Near East and North Africa (NEA):

Program Contact: Thomas Johnston, Tel: (202) 453-8162; e-mail: JohnstonTJ@state.gov

Approximate Grant Award: $300,000 to $375,000 for a program involving approximately 35 to 40 total participants.

For the YEP program in the NEA region, foreign participants can be recruited from all countries in the Middle East, North Africa, and the Persian Gulf region with the understanding that a minimum of six and a maximum of ten participants be recruited from each country involved. Both single-country and multiple-country proposals will be considered.

South and Central Asia (SCA):

Program Contact: Adam Meier, tel: (202) 453-8151, e-mail: MeierAW2@state.gov.

Approximate Grant Award: $300,000 to $375,000 for a program involving approximately 35 to 40 total participants.

For the YEP program in South and Central Asia, ECA seeks proposals for a single-country program in Afghanistan. Because of the changing nature of the security situation, U.S. participants may not be able to travel to Afghanistan as part of the YEP program. Therefore, proposals should include a contingency plan to bring U.S. and Afghan participants together in a third country (preferably within the South and Central Asia region) for those relevant program components.

3. Outreach and Integration of Minority Communities

ECA seeks proposals for programs that will engage community leaders, educators, youth influencers, journalists, and community-based organizations in examination of programs and practices to facilitate integration and empowerment of minority populations, particularly youth, in selected countries. This program would look at issues related to the integration of immigrant and minority populations into a modern democratic society. This includes integration in the political system, economic opportunity, freedom of expression, access to education, and practice of an open social/cultural life, while maintaining ethnic identity within a multi-ethnic society. A specific concentration of programming on immigrant and minority youth populations and the special needs/challenges they face in modern society should be a major focus. An overall comparison and sharing of best practices in the U.S. and in foreign countries on these issues should also be included. Programming should include an overview of U.S. and foreign government and legal structures, an understanding of the diversity of American and foreign societies and efforts to increase tolerance and respect for others with differing views and beliefs. Program content should include an overview of the range of historical and current American and foreign experiences with integrating various immigrant and minority citizens, examination of what has worked well and what has not, and analysis of the range of actors including government, NGOs, religious organizations, immigrant organizations, educational institutions, and the role of the media and public who report on these issues. Participants (from the U.S. and foreign countries) in the program should include representatives of non-governmental organizations, community leaders, educators, youth influencers, religious leaders, and journalists from minority communities.

Successful applicants must fully demonstrate a capacity to achieve the following:

(1) Recruit and select approximately 20 to 25 individuals throughout the target country. Program should be designed for two groups to travel to the U.S. Partnering with organizations based in target country is required.

(2) In addition to identifying in-country partner and screening, selecting, and preparing participants prior to departure for the United States, the recipient of this grant will be responsible for building and executing a three to four week informative travel and training program in the United States.

(3) Conduct an in-country (overseas) workshop(s) to examine the process of integration of marginalized populations in foreign country for approximately 10 to 15 U.S. participants. Ideally, the U.S. participants will be professionals who have worked with foreign participants and are recommended by foreign participants. The overseas program/workshop(s) should be designed to engage a broad audience, not just program participants.

(4) Develop enhancement activities that reinforce program goals after the participants' return to their home country. An essential follow-on component will be a longitudinal assessment of the achievements of the program.

ECA envisions that the program calendar will approximately be as follows:

September 2009-January 2010: Recruitment and selection of foreign participants and development of U.S.-based programs.

February-April 2010: Travel to the United States by ½ of all the foreign participants to the for a three to six week program.

May-September 2010: Travel overseas by U.S. participants for an approximately two week program.

October-December 2010: Travel to the United States by of all the remaining foreign participants for a three to six week program.

January-May 2011: Travel overseas by remaining U.S. participants for an approximately two week program.

Program Countries:

ECA plans to award up to two grants under this theme at $300,000 to $350,000 each. ECA seeks separate programs in the following countries:

Thailand: Program should specifically address the minority communities in southern Thailand.

Philippines: Program should specifically address the minority communities in the Mindanao region.

Note: Applicants must be aware of security related travel restrictions for U.S. citizens in southern Thailand and the Mindanao region in the Philippines. Therefore, proposals should include plans to conduct programming in Thailand and the Philippines that involves U.S. participants in alternative locations within those countries.

Applicant organizations are highly encouraged to contact the ECA program officer responsible for this theme(s) BEFORE submitting a proposal.

Program Contact: Brent Beemer, tel: (202) 453-8147, e-mail: BeemerBT@state.gov.

4. Nqwang Choephel Fellowship Program for Tibet

The Office of Citizen Exchanges welcomes proposals in an open competition for the Ngwang Choepel Fellows program that focus on the themes of Cultural Preservation and Economic Self-sufficiency. The Office seeks proposals that train and assist Tibetans living in Tibetan communities in China by providing professional experience and exposure to American society and culture through internships, workshops and other learning activities hosted by U.S. institutions. The experiences will also provide Americans the opportunity to learn about Tibetan culture and the social and economic challenges that Tibetans face today. Applicants may propose programming for Tibetans who travel to the United States and/or for Americans who travel to Tibet. Programs designed for participants from Tibet should not be simply academic in nature, but should provide practical, hands-on experience in U.S. public or private sector settings that may be adapted to an individual's institution upon return home. Proposals may combine elements of professional enrichment, job shadowing and internships appropriate to the language ability and interests of the participants. Americans who travel to Tibet will be expected to participate in activities that further the goals and objectives of the Tibet Policy Act of 2002, as described below. Applicants should ensure that their proposals comply with the Tibet Policy Act of 2002, particularly that their projects promote in all stages the active participation of Tibetans. Section 616(d) of the Foreign Relations Authorization Act, 2003 (Pub. L. 107-228) defines the Tibet Project Principles:

(d) Tibet Project Principles—Projects in Tibet supported by international financial institutions, other international organizations, nongovernmental organizations, and the United States entities referred to in subsection (c), should (1) Be implemented only after conducting a thorough assessment of the needs of the Tibetan people through field visits and interviews; (2) Be preceded by cultural and environmental impact assessments; (3) Foster self-sufficiency and self-reliance of Tibetans; (4) Promote accountability of the development agencies to the Tibetan people and active participation of Tibetans in all project stages; (5) Respect Tibetan culture, traditions, and the Tibetan knowledge and wisdom about their landscape and survival techniques; (6) Be subject to on-site monitoring by the development agencies to ensure that the intended target group benefits; (7) Be implemented by development agencies prepared to use Tibetan as the working language of the projects; (8) Neither provide incentive for, nor facilitate the migration and settlement of, non-Tibetans into Tibet; and (9) Neither provide incentive for, nor facilitate the transfer of ownership of, Tibetan land or natural resources to non-Tibetans.

The Office of Citizen Exchanges welcomes proposals that focus on the themes of Cultural Preservation and Economic Self-sufficiency under this competition for FY-2009 Ngwang Choepel Fellows program.

Cultural Preservation

Projects under this theme should aim to assist Tibetans in preserving their cultural heritage through activities designed to reduce the pillage of irreplaceable cultural artifacts, and to create opportunities that develop long-term strategies for preserving cultural property through training and conservation, museum development, and education. Projects might include the preservation of cultural sites; objects in a site, museum or similar institution; or forms of traditional cultural expression. The proposals may encompass topics such as museum needs, historic buildings, collections, archaeological sites, rare manuscripts, language, or traditional arts, crafts, or music.

Economic Self-Sufficiency

Vocational Education:

The Bureau seeks proposals that emphasize vocational training or the administration and development of vocational schools targeted towards the practical needs of Tibetan communities. Discussion of how to integrate education with economic planning, how to diversify revenue sources, and how to recruit, train and retain strong faculty would all contribute towards increased emphasis on vocational education and its importance to both Americans and Tibetans in a modern and changing economy. Vocational education may include practical training of entrepreneurs, development of Tibetan-language educational materials (such as Tibetan-English teaching guides or Tibetan-language public health education materials), or the development of distance learning technology for remote rural schools. English-language training projects that are held in China are preferred over ones that would bring Tibetans to the United States for training.

Developing Entrepreneurship:

Projects under this theme should focus on the skills that Tibetans, many of whom come from rural backgrounds with rudimentary economies, need to function effectively in a modern economy (e.g., finance, accounting, and language skills). Projects should explore how the government and the private sector can help promote sustainable entrepreneurship, including access to credit, ecologically-conscious tourism policies and investment, or English language training for trade or tourism purposes. Programs that train aspiring entrepreneurs and develop micro-finance programs for them are welcome.

Sustainable Growth and Ecotourism:

Exchanges funded under this theme should help American and Tibetan conservationists, tourism planners, and economic planners share their experience in managing tourism resources and development projects, particularly in ecologically fragile areas, and should contribute to increased understanding of conservation and concepts essential to responsible economic growth. Local community projects are invited in fields such as ecotourism, renewable energy, or poverty alleviation projects, including farm technology, animal husbandry, or agricultural marketing.

II. Award Information

Type of Award: Grant Agreement.

Fiscal Year Funds: 2009.

Approximate Total Funding: $5,600,000 (Pending Availability of Funds).

Approximate Number of Awards: 10-15.

Approximate Average Award: $325,000-$350,000. Grants that cover several components (regions/countries) of LFP and YEP will be larger. Please contact ECA for further information on this.

Floor of Award Range: $300,000 per region of the LFP and YEP programs and per country for the Integration of Minority Communities Program. Grants that cover several components (regions) will be larger. Please contact ECA for further information on this.

Ceiling of Award Range: $350,000 per region of the LFP and YEP programs and per country for the Integration of Minority Communities Program. Grants that cover several components (regions) will be larger. Please contact ECA for further information on this.

Anticipated Award Date: Pending availability of funds, September 1, 2009.

Anticipated Project Completion Date: August 31, 2011.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. Proposals that offer significant cost-sharing will be judged more competitive than those that do not.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110 (Revised), Subpart C.23—Cost Sharing and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates making awards in an amount from $300,000 and higher to support program and administrative costs required to implement the programs in this RFGP. Therefore, organizations with less than four years experience in conducting international exchanges are ineligible to apply under this competition. The Bureau encourages applicants to provide maximum levels of cost sharing and funding in support of its programs.

(b) Technical Eligibility: All proposals must comply with the following or will be declared technically ineligible and will receive no further consideration in the review process:

—Eligible applicants may not submit more than one proposal per theme under this competition;

—Eligible applicants may only propose working with the countries and themes listed under each of the themes of this RFGP.

—No funding is available exclusively to send U.S. citizens to conferences or conference type seminars overseas; nor is funding available for bringing foreign nationals to conferences or to routine professional association meetings in the United States.

Please refer to the Proposal Submission Instruction (PSI) document for additional requirements.

IV. Application and Submission Information

Note: Please read the complete announcement before sending inquiries or submitting proposals. Once the RFGP deadline has passed, Bureau staff may not discuss this competition with applicants until the proposal review process has been completed.

IV.1. Contact Information to Request an Application Package:

Please contact the Office of Citizen Exchanges, ECA/PE/C, Room 220, U.S. Department of State, SA-44, 301 4th Street, SW., Washington, DC 20547, (202) 453-8174 (202) 453-8169, GustafsonDP@state.gov to request a Solicitation Package. Please refer to the Funding Opportunity Number ECA/PE/C-09-01 located at the top of this announcement when making your request.

Alternatively, an electronic application package may be obtained from grants.gov. Please see section IV.3f for further information.

The Solicitation Package contains the Proposal Submission Instruction (PSI) document which consists of required application forms, and standard guidelines for proposal preparation.

Please specify Brent Beemer and refer to the Funding Opportunity Number ECA/PE/C-09-01 located at the top of this announcement on all other inquiries and correspondence.

IV.2. To Download a Solicitation Package Via Internet:

The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. Please note: Effective March 14, 2008, all applicants for ECA federal assistance awards must include with their application, a copy of page 5, Part V-A, “Current Officers, Directors, Trustees, and Key Employees” of their most recent Internal Revenue Service (IRS) Form 990, “Return of Organization Exempt From Income Tax.” If an applicant does not file an IRS Form 990, but instead files Schedule A (Form 990 or 990-EZ)—“Organization Exempt Under Section 501(c)(3),” applicants must include with their application a copy of Page 1, Part 1, “Compensation of the Five Highest Paid Employees Other Than Officers, Directors and Trustees,” of their most recent Internal Revenue Service (IRS) Form—Schedule A (Form 990 or 990-EZ).

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3d.4. For informational and planning purposes, we are informing all potential applicants that ECA is in the process of developing comprehensive approaches to alumni programming, web portal development supported through ECA assistance awards (grants/cooperative agreements) and the expansion of private/public partnerships to increase the reach of ECA's exchange programs. In the event your proposal is recommended for funding, you may receive additional guidance/information related to these topics during the negotiation stage of the approval process.

In addition, all recipients of ECA grants or cooperative agreements should be prepared to state in any announcement or publicity where it is not inappropriate, that activities are assisted financially by the Bureau of Educational and Cultural Affairs of the United States Department of State under the authority of the Fulbright-Hays Act of 1961, as amended. Award recipients are strongly encouraged to use the Department seal on all promotional and related materials for ECA funded programs which support the commemoration of special occasions or events, but only after first obtaining written permission from the ECA program office(r) assigned to the project.

IV.3e. Please take the following information into consideration when preparing your budget:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs for the program include the following:

1. Travel. International and domestic airfare; airline baggage and seat fees; visas; transit costs; ground transportation costs. Please note that all air travel must be in compliance with the Fly America Act. There is no charge for J-1 visas for participants in Bureau sponsored programs.

2. Per Diem. For U.S.-based programming, organizations should use the published Federal per diem rates for individual U.S. cities. Domestic per diem rates may be accessed at: http://www.gsa.gov/Portal/gsa/ep/contentView.do?programId=9704&channelId=-15943&ooid=16365&contentId=17943&pageTypeId=8203&contentType=GSA_BASIC&programPage=%2Fep%2Fprogram%2FgsaBasic.jsp&P=MTT.

ECA requests applicants to budget realistic costs that reflect the local economy and do not exceed Federal per diem rates. Foreign per diem rates can be accessed at: http://aoprals.state.gov/web920/per_diem.asp.

3. Interpreters. For U.S.-based activities, ECA strongly encourages applicants to hire their own locally based interpreters. However, applicants may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

6. Room rental. The rental of meeting space should not exceed $250 per day. Any rates that exceed this amount should be cost shared.

7. Materials. Proposals may contain costs to purchase, develop and translate materials for participants. Costs for high quality translation of materials should be anticipated and included in the budget. Grantee organizations should expect to submit a copy of all program materials to ECA, and ECA support should be acknowledged on all materials developed with its funding.

8. Equipment. Applicants may propose to use grant funds to purchase equipment, such as computers and printers; these costs should be justified in the budget narrative. Costs for furniture are not allowed.

9. Working meal. Normally, no more than one working meal may be provided during the program. Per capita costs may not exceed $15-$25 for lunch and $20-$35 for dinner, excluding room rental. The number of invited guests may not exceed participants by more than a factor of two-to-one. When setting up a budget, interpreters should be considered “participants.”

10. Return travel allowance. A return travel allowance of $70 for each foreign participant may be included in the budget. This allowance would cover incidental expenses incurred during international travel.

11. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for any travel associated with visa interviews or DS-2019 pick-up.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 below. Proposals should show strong administrative cost sharing contributions from the applicant, the in-country partner and other sources.

Please refer to the Solicitation Package for complete budget guidelines and formatting instructions.

IV.3F. Application Deadline and Methods of Submission

Application Deadline Date: February 20, 2009.

Reference Number: ECA/PE/C-09-01.

Methods of Submission:

Applications may be submitted in one of two ways:

(1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1—Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/PE/C-09-01, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. embassy(ies) for its (their) review.

IV.3f.2—Submitting Electronic Applications

Applicants have the option of submitting proposals electronically through Grants.gov (http://www.grants.gov). Complete solicitation packages are available at Grants.gov in the “Find” portion of the system. Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support, Contact Center Phone: 800-518-4726, Business Hours: Monday—Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award grants resides with the Bureau's Grants Officer.

Review Criteria

Technically eligible applications will be competitively reviewed according to the criteria stated below. These criteria are not rank ordered and all carry equal weight in the proposal evaluation:

1. Program Planning and Ability To Achieve Objectives: Program objectives should be stated clearly and should reflect the applicant's expertise in the subject area and region. Objectives should respond to the topics in this announcement and should relate to the current conditions in the target country/countries. A detailed agenda and relevant work plan should explain how objectives will be achieved and should include a timetable for completion of major tasks. The substance of workshops, internships, seminars and/or consulting should be described in detail. Sample schedules should be outlined. Responsibilities of proposed in-country partners should be clearly described. A discussion of how the applicant intends to address language issues should be included, if needed.

2. Institutional Capacity: Proposals should include (1) the institution's mission and date of establishment; (2) detailed information about proposed in-country partner(s) and the history of the partnership; (3) an outline of prior awards—U.S. government and/or private support received for the target theme/country/region; and (4) descriptions of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

3. Cost Effectiveness and Cost Sharing: Overhead and administrative costs in the proposal budget, including salaries, honoraria and subcontracts for services, should be kept to a minimum. Proposals in which the administrative costs do not exceed 25% of the total requested ECA grant funds will be more competitive (see IV.3e.2 #14 for clarification on this). Applicants are strongly encouraged to cost share a portion of overhead and administrative expenses. Cost-sharing, including contributions from the applicant, proposed in-country partner(s), and other sources should be included in the budget request. Proposal budgets that do not reflect cost sharing will be deemed not competitive on this criterion.

4. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI) and the Diversity, Freedom and Democracy Guidelines section, Item IV.3d.2, above for additional guidance.

5. Post-Grant Activities: Applicants should provide a plan to conduct activities after the Bureau-funded project has concluded in order to ensure that Bureau-supported programs are not isolated events. Funds for all post-grant activities must be in the form of contributions from the applicant or sources outside of the Bureau. Costs for these activities must not appear in the proposal budget, but should be outlined in the narrative.

6. Program Monitoring and Evaluation: Proposals should include a detailed plan to monitor and evaluate the program. Program objectives should target clearly defined results in quantitative terms. Competitive evaluation plans will describe how applicant organizations would measure these results, and proposals should include draft data collection instruments (surveys, questionnaires, etc.) in Tab E. Successful applicants (grantee institutions) will be expected to submit a report after each program component concludes or on a quarterly basis, whichever is less frequent. The Bureau also requires that grantee institutions submit a final narrative and financial report no more than 90 days after the expiration of a grant.

VI. Award Administration Information

VI.1a. Award Notices:

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. The following additional requirements apply to this project:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Thomas Johnston, Tel. (202) 453-8162; e-mail: JohnstonTJ@state.gov for additional information.

VI.2. Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov.

VI.3. Reporting Requirements: You must provide ECA with a hard copy original plus one electronic copy of the following reports:

A final program and financial report no more than 90 days after the expiration of the award;

(1) A concise, one-page final program report summarizing program outcomes no more than 90 days after the expiration of the award. This one-page report will be transmitted to OMB, and be made available to the public via OMB's USAspending.gov Web site—as part of ECA's Federal Funding Accountability and Transparency Act (FFATA) reporting requirements.

(2) A SF-PPR, “Performance Progress Report” Cover Sheet with all program reports.

(3) Quarterly program and financial reports for the duration of the program.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VI.4. Optional Program Data Requirements:

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Brent Beemer, Office of Citizen Exchanges, ECA/PE/C, Room 220, U.S. Department of State, SA-44, 301 4th Street, SW., Washington, DC 20547, (202) 453-8147, BeemerBT@state.gov.

All correspondence with the Bureau concerning this RFGP should reference the above title and number ECA/PE/C-09-01.

Please read the complete announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 25, 2008.
Goli Ameri,
Assistant Secretary for Educational and Cultural Affairs, Department of State.

[FR Doc. E8-28737 Filed 12-3-08; 8:45 am]

BILLING CODE 4710-05-P